DEPARTMENT OF JUSTICE

Notice of Lodging of Consent Decree Pursuant to the Comprehensive Environmental Response, Compensation and Liability Act

In accordance with Departmental policy, 28 CFR 50.7, notice is hereby given that a proposed Consent Decree in United States v. City of Arkansas City, Kansas, et al. Civil Action No. 01-1056-JTM was lodged on February 22, 2001, with the United States District Court for the District of Kansas. With regard to the Defendants, City of Arkansas City, Kansas, City of Winfield, Kansas, General Electric Company, Greif Bros. Corporation, Gordon-Piatt Energy Group, Inc., Strother Field Commission and Tenneco Automotive Inc., (“Settling Defendants”), the Consent Decree resolves a claim filed by the United States on behalf of the United States Environmental Protection Agency (“EPA”) pursuant to the Comprehensive Environmental Response, Compensation and Liability Act, as amended, 42 U.S.C. 9601, et seq.

The United States entered into the Consent Decree in connection with the Strother Field Site located in Cowley County, Kansas. The Consent Decree provides that the Settling Defendants will be responsible for reimbursing the United States for past costs and implementing injunctive relief related to contaminated soil at the Site.

The Department of Justice will receive, for a period of thirty (30) days from the date of this publication, comments relating to the proposed Settlement Order. Comments should be addressed to the Assistant Attorney General for the Environment and Natural Resources Division, Department of Justice, Washington, DC 20530, and should refer to United States v. City of Arkansas City, Kansas, et al., DOJ Ref. #90-11-3-1277.

The proposed Consent Decree may be examined at either of the following locations: (1) The Office of the United States Attorney, District of Kansas, 500 State Avenue, Suite 360, Kansas City, Kansas; or (2) Office of Regional Counsel, Environmental Protection Agency, 901 North 5th Street, Kansas City, Kansas. A copy of the consent decree can be obtained by mail from the Department of Justice Consent Decree Library, P.O. Box 7611, Washington, DC 20044. In requesting a copy of the consent decree (without attachments), please enclose a check in the amount of $17.00 (25 cents per page reproduction cost) payable to the Consent Decree Library. In requesting a copy of attachments only, please enclose a check in the amount of $30.25 (25 cents per page reproduction cost) payable to the Consent Decree Library.

Bruce S. Gelber,
Chief, Environmental Enforcement Section.

[FR Doc. 01-5704 Filed 3-7-01; 8:45 am]

BILLING CODE 4410-15-M